DEPARTMENT OF ENERGY

Federal Energy Regulatory Commission

[Project No. 13526-000]

The Bowersock Mills and Power Company; Notice of Preliminary Permit Application Accepted for Filing and Soliciting Comments, Motions To Intervene, and Competing Applications

July 27, 2009.

On June 24, 2009, The Bowersock Mills and Power Company filed an application for a preliminary permit, pursuant to section 4(f) of the Federal Power Act, proposing to study the feasibility of The Bowersock Mills and Power Company Kansas River Project, which is located on the Kansas River in Douglas County, Kansas. The sole purpose of a preliminary permit, if issued, is to grant the permit holder priority to file a license application during the permit term. A preliminary permit does not authorize the permit holder to perform any land disturbing activities or otherwise enter upon lands or waters owned by others without the owners' express permission.

The proposed project would operate run-of-river and consist of the following:

(1) The existing 665-foot-long, 17-foot-high timber-crib Bowersock Dam; (2) a 120-foot-long gated spillway with seven gates; (3) raising existing flashboards from 4-foot-high to 5.5-foot-high flashboards; (4) an existing 4.3 mile-long reservoir having a normal water surface elevation of 813.5 feet mean sea level; (5) an existing South powerhouse containing seven turbine/generator units (6) a proposed North powerhouse housing four turbine/generator units; (7) a proposed 20-foot-wide Taintor gate; (8) a new intake flume with trashracks; (9) a new 150-foot-long recreational boat portage located at the north bank of the Kansas River; (10) a new 765-foot-long, 12-kilovolt (kV) transmission line connecting to an existing 535-foot-long 2.3 kV transmission line; and (8) appurtenant facilities. The proposed project would have a total capacity of 7.15 megawatts (MW) and an average annual generation of 33 gigawatt-hours.

Applicant Contact: Sarah Hill-Nelson, The Bowersock Mills and Power Company, P.O. Box 66, Lawrence, Kansas 66044; phone: (785) 766-0884.

FERC Contact: Monte TerHaar, 202-502-6035.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project, including a copy of the application, can be viewed or printed on the “eLibrary” link of Commission's Web site at http://www.ferc.gov/docs-filing/elibrary.asp. Enter the docket number (P-13526) in the docket number field to access the document. For assistance, call toll-free 1-866-208-3372.

Kimberly D. Bose,
Secretary.

[FR Doc. E9-18298 Filed 7-30-09; 8:45 am]

BILLING CODE 6717-01-P